FEDERAL COMMUNICATIONS COMMISSION

[OMB 3060-0584; FRS 17170]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before December 22, 2020. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

OMB Control Number: 3060-0584.

Title: Administration of U.S. Certified Accounting Authorities in Maritime Mobile and Maritime Mobile-Satellite Radio Services, FCC Forms 44 and 45.

Form Number: FCC Form 44 and FCC Form 45.

Type of Review: Extension a currently approved collection.

Respondents: Business or other for-profit.

Number of Respondents and Responses: 10 respondents and 22 responses.

Estimated Time per Response: 1 hour-3 hours.

Frequency of Response: On occasion, annually and semi-annually reporting requirements; annual recordkeeping requirement.

Obligation to Respond: Mandatory. Statutory authority for this information collection is contained in 47 U.S.C. 154(i), 154(j), 161, 201-205, and 303(r).

Total Annual Burden: 24 hours.

Total Annual Cost: $225,000.

Privacy Act Impact Assessment: No impact(s).

Nature and Extent of Confidentiality: Respondents concerned about disclosure of sensitive information in any submissions to the Commission may request confidential treatment pursuant to 47 CFR 0.459 of the Commission's rules.

Needs and Uses: The Commission will submit this information collection to the Office of Management and Budget (OMB) after this 60-day comment period in order to obtain the full three-year clearance from them.

The FCC has standards for accounting authorities in the maritime mobile and maritime-satellite radio services. The Commission will use the information to determine eligibility of applicants for certification as an accounting authority, to monitor activity, to ensure compliance, and to identify accounting authorities to the International Telecommunications Union. Respondents are entities seeking certification or those already certified to be accounting authorities.

Federal Communications Commission.
Marlene Dortch,
Secretary, Office of the Secretary.

[FR Doc. 2020-23458 Filed 10-22-20; 8:45 am]

BILLING CODE 6712-01-P